DEPARTMENT OF JUSTICE

[OMB Number 1121-0100]

Agency Information Collection Activities; Proposed eCollection eComments Requested; Reinstatement, With Change, of a Previously Approved Collection for Which Approval Has Expired: 2019 Census of Jails

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until April 16, 2019.

FOR FURTHER INFORMATION CONTACT: If you have comments especially on the estimated public burden or associated response time, suggestions, or need a copy of the proposed information collection instrument with instructions or additional information, please contact Todd D. Minton, Bureau of Justice Statistics, 810 Seventh Street NW, Washington, DC 20531 (email: Todd.Minton@usdoj.gov; telephone: 202-305-9630).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection for which approval has expired.

2. Title of the Form/Collection: 2019 Census of Jails (COJ).

3. Agency form number, if any, and the applicable component of the Department of Justice sponsoring the collection: The form numbers are CJ-3: 2019 Census of Jails (COJ)-Single-Jail Reporting Unit Form; CJ-3A: 2019 Census of Jails (COJ)-Multi-Jail Reporting Unit Form; and the CJ-3A ADDENDUM: 2019 Census of Jails (COJ)-Facility Form. The COJ will collect data from approximately 2,947 reporting units (RU), representing 3,169 local jails (city, county, regional, and private) and 12 federal detention centers. The combined jail/prison systems in Alaska, Connecticut, Delaware, Hawaii, Rhode Island, and Vermont, are covered in the Census of State and Federal Adult Correctional Facilities (OMB Control Number 1121-0147), and are not in the universe for the COJ. The jail RUs are central reporters with jurisdictional authority over one or more jails. BJS will contact these central reporters and request that they report data for all facilities (3,181) under their jurisdictional authority based on the following criteria:

• 2,652 RUs that cover only one facility will receive form CJ-3, which includes all 26 questions;

• 295 RUs that cover multiple facilities will each receive one CJ-3A to report combined data for all of their facilities on 15 of the 26 questions; and

• The same 295 RUs that cover multiple facilities will receive a CJ-3A ADDENDUM form to be filled out for each facility (529 in total) under their jurisdictional authority.

This questionnaire will include 11 of the 26 questions in CJ-3, since many of these items are needed for the sampling facilities for several BJS inmate surveys.

The applicable component within the Department of Justice is the Bureau of Justice Statistics (BJS), in the Office of Justice Programs.

The Bureau of Justice Statistics (BJS) requests clearance to conduct the 2019 Census of Jails (COJ) under OMB Control Number 1121-0100. The COJ was last approved through 11/30/2016 under OMB Control Number 1121-0249 along with the Mortality in Correctional Institutions-Jails (MCI, formerly the Deaths in Custody Reporting Program) because of a timely need for the data. Unlike 2013, when an abbreviated form of the COJ was conducted along with MCI-Jails data collection, the 2019 COJ will be a standalone collection. BJS requests clearance for the 2019 COJ under its previous unique OMB Control Number 1121-0100.

4. Affected public who will be asked or required to respond, as well as a brief abstract: The affected public that will be asked to respond to the COJ includes jail administrators from approximately 2,947 reporting units (RU), representing 3,169 local jails (city, county, regional, and private), and 12 Federal Bureau of Prisons (BOP) detention facilities that function as jails. The respondents will be asked to provide information for the following categories:

(a) The purposes for which the facility hold offenders (e.g., detention facility with authority to hold persons facing criminal charges beyond 72 hours, correctional facility for persons convicted of offenses with sentences usually beyond 72 hours, etc.);

(b) As a matter of practice, does the facility hold males or females only;

(c) The functions of the facility (e.g., general adult population confinement, medical treatment/hospitalization confinement, drug treatment confinement, boot camp, etc.);

(d) At midyear (last weekday in the month of June), the total rated capacity of the jail;

(e) At midyear (last weekday in the month of June), was the facility under a federal, state or local court order or consent decree to limit the number of inmates housed; maximum number of inmates the facility is allowed to house; and the year the order or decree take effect;

(f) At midyear, was the facility under a court order or consent decree for specific conditions of confinement (e.g., crowing, staffing, food, medical facilities or services; grievance procedures or policies religious practices, etc.);

(g) At midyear (last weekday in the month of June), the number of inmates confined in jail facilities, including: Male and female adult and juvenile inmates; persons under age 18 held as adults; inmate race/Hispanic origin; probation and parole violators; convicted and unconvicted status; persons held for felonies and misdemeanors; inmate U.S. citizenship status by conviction status; and inmates held for federal authorities, state prison authorities, American Indian or Alaska Native tribal governments, and other local jails;

(h) At midyear (last weekday in the month of June), the number of persons under the supervision of the jail jurisdiction, but not confined;

(i) On the weekend prior to midyear (last weekday in the month of June), did the jail have a weekend program that allow offenders to serve their sentences of confinement only on weekends; and the number who participated;

(j) The date and count for the greatest number of confined inmates during the 30-day period in June;

(k) The average daily population during the 365-day period between July 1, 2018 and June 30, 2019;

(l) The number of new admissions into jail, and final discharges from jail, between July 1, 2018 and June 30, 2019;

(m) At midyear (last weekday in the month of June), the number of correctional staff employed by the facility and their occupations, broken out by male or female staff (i.e., correctional officers and all other staff);

(n) Yes or no to facility practices on inmate opioid testing, screening and treatment that are conducted either on or off facility grounds;

(o) Based on the number of new admissions into jail during the 30-day period from June 1 to June 30, 2019, how many were screened with a questionnaire or interview for opioid use disorder; how many screened positive for opioid use disorder; how many of those who screened positive were unique individuals;

(p) Based on the number of new admissions into jail during the 30-day period from June 1 to June 30, 2019, how many did the facility treat for opioid withdrawal; how many treated for opioid withdraw were unique individuals; and

(q) At midyear (last weekday in the month of June), how many persons confined in the facility were receiving medication-assisted treatment for opioid disorders.

This collection is the only national effort devoted to enumerating all local jails and BOP detention facilities in the United States and the population they supervise at the facility level. The collection enables BJS, jail administrators, legislators, researchers, and jail planners to track growth in the number of jails and their capacities, as well as to track changes in the demographics and supervision status of the jail population and the prevalence of crowding.

5. An estimate of the total number of respondents and the amount of time estimated for an average respondent to respond:

Reporting Mode and Estimated Burden
Primary reporting mode | Purpose of contact | Number of data providers (RUs) | Number of responses | Average reporting time (min) | Estimated total burden hours
Web | Data collection
| Form CJ-3 | 2,652 | 2,652 | 150 | 6,631
| Form CJ-3A | 295 | 295 | 100 | 491
| Form CJ-3A ADDENDUM | 295 | 529 | 50 | 441
Subtotal for 3 forms |  | 2,947 | 3,476 | 150 | 7,563
Email and telephone | Data quality follow-up validation | 1,620 | 1,749 | 10 | 291
Email and telephone | Verify facility operational status and point-of-contact | 300 | 300 | 5 | 25
Total |  |  |  |  | 7,879

The questionnaires will be sent to from approximately 2,947 reporting units (RU), representing 3,169 local jails and 12 Federal Bureau of Prisons (BOP) detention facilities that function as jails. BJS will contact these central reporters and request that they report data for all facilities (3,181) under their jurisdictional authority. Based on prior years' reporting and the cognitive test of the new items conducted in August-December 2018, BJS estimates a reporting time of 150 minutes for CJ-3, 100 minutes for CJ-3A, and 50 minutes for the CJ-3A ADDENDUM. If needed, jail respondents will be contacted by email or telephone to verify data quality issues. BJS estimates that data quality follow-up validation will run an average of 10 minutes across 1,620 RUs. Some RUs may receive follow-up validation for multiple facilities (resulting in a total of 1,749 facilities from the original 1,620 RUs) under their jurisdictional authority. In addition, we estimate that 300 RUs will be contacted during the jail frame update stage to verify facility operational status and point-of-contact, which takes 5 minutes each on average. In total, the 2019 COJ will incur a burden estimate of 7,879 hours or about 2 hours and 30 minutes per RU for data collection and 10 minutes or less for select RUs contacted for data quality follow-up validation or facility operational status and point-of-contact validation.

If additional information is required, contact: Melody Braswell, Department Clearance Officer, United States Department of Justice, Justice Management Division, Policy and Planning Staff, Two Constitution Square, 145 N Street NE, 3E.405A, Washington, DC 20530.

Dated: February 12, 2019.
Melody Braswell,
Department Clearance Officer for PRA, U.S. Department of Justice.

[FR Doc. 2019-02489 Filed 2-14-19; 8:45 a.m.]

BILLING CODE 4410-18-P